DEPARTMENT OF ENERGY

Federal Energy Regulatory Commission

[Docket No. RM10-23-000; Order No. 1000]

Transmission Planning and Cost Allocation by Transmission Owning and Operating Public Utilities

AGENCY: Federal Energy Regulatory Commission, DOE.

ACTION: Final rule; notice.

SUMMARY: The Commission issued Order No. 1000, 76 FR 49842 (August 11, 2011) and Order No. 1000-A, 77 FR 32,184 (May 31, 2012). All compliance filings must be submitted in accordance with the Commission's electronic tariff filing (eTariff) requirements in Electronic Tariff Filings, Order No. 714, FERC Stats. & Regs. ¶ 31,276 (2008). To designate one's filing a compliance filing, the filer must select the Type of Filing Code: 80. In addition, to facilitate searching, filers are asked to title such filings “OATT Order No. 1000 Compliance Filing” in the eTariff Filing Title field and in the Description field in eFiling.

DATES: Effective on October 4, 2012.

FOR FURTHER INFORMATION CONTACT: Christopher P. Daignault, Federal Energy Regulatory Commission, Office of the General Counsel, 888 First Street NE., Washington, DC 20426, (202) 502-8286.

SUPPLEMENTARY INFORMATION: Take notice of the following filing procedures with respect to compliance obligations in Transmission Planning and Cost Allocation by Transmission Owning and Operating Public Utilities, Order No. 1000, FERC Stats. & Regs. ¶ 31,323 (2011), order on reh'g, Order No. 1000-A, 77 FR 32,184 (May 31, 2012), 139 FERC ¶ 61,132 (2012).

All compliance filings must be submitted in accordance with the Commission's electronic tariff filing (eTariff) requirements in Electronic Tariff Filings, Order No. 714, FERC Stats. & Regs. ¶ 31,276 (2008). To designate one's filing a compliance filing, the filer must select the Type of Filing Code: 80. In addition, to facilitate searching, filers are asked to title such filings “OATT Order No. 1000 Compliance Filing” in the eTariff Filing Title field and in the Description field in eFiling.

The filer may request a specific effective date, or, if the date is not yet known (as in the case where the filer wants the tariff sheet(s) to be effective the day after the Commission issues the order addressing its Order No. 1000 compliance filing), the filer may request that the Commission designate the effective date by (1) explaining this in the filer's transmittal letter submitted with its eTariff filing and (2) listing the effective date in e-Tariff as “12/31/9998”.

Dated: September 20, 2012.
Kimberly D. Bose,
Secretary.

[FR Doc. 2012-24437 Filed 10-3-12; 8:45 am]

BILLING CODE 6717-01-P